DEPARTMENT OF THE INTERIOR

Bureau of Land Management

[LLCAD070000, L91310000, EI0000]

Notice of Availability of the Draft Environmental Impact Statement for the West Chocolate Mountains Renewable Energy Evaluation Area, Imperial Valley, California, and the Draft California Desert Conservation Plan Amendment

AGENCY: Bureau of Land Management, Interior.

ACTION: Notice of Availability.

SUMMARY: In accordance with the National Environmental Policy Act of 1969, as amended (NEPA), and the Federal Land Policy and Management Act of 1976, as amended (FLPMA), the Bureau of Land Management (BLM) has prepared a Draft California Desert Conservation Area (CDCA) Plan Amendment, and a Draft Environmental Impact Statement (EIS) for the West Chocolate Mountains Renewable Energy Evaluation Area. By this notice, the BLM is announcing the opening of the comment period.

DATES: To ensure that comments will be considered, the BLM must receive written comments on the Draft CDCA Plan Amendment and Draft EIS within 90 days following the date the Environmental Protection Agency publishes its Notice of Availability for the Draft EIS in the Federal Register. The BLM will announce future meetings or hearings and any other public involvement activities at least 15 days in advance through public notices, media releases, and/or mailings.

ADDRESSES: You may submit comments related to the West Chocolate Mountains Renewable Energy Evaluation Area by any of the following methods:

• E-mail: wcm_comments@blm.gov.

• Fax: (951) 697-5299.

• Mail: Bureau of Land Management, California Desert District Office, 22835 Calle San Juan de Los Lagos, Moreno Valley, California 92533-9046, Attn: Peter Godfrey.

Copies of the Draft EIS and Draft CDCA Plan Amendment for the West Chocolate Mountains Renewable Energy Evaluation Area are available in the California Desert District Office at the above address; at the El Centro Field Office at 1661 S. 4th Street, El Centro, California; and the Palm Springs-South Coast Field Office at 1201 Bird Center Drive, Palm Springs, California.

FOR FURTHER INFORMATION CONTACT: Joseph Vieira, BLM Project Manager, telephone (719) 852-6213; or e-mail jvieira@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Draft EIS analyzes the potential environmental impacts associated with amending the CDCA Plan to make available approximately 20,762 acres of BLM-managed surface lands (acquired lands included) for solar, wind and geothermal testing and development in a renewable energy evaluation area located near Niland, California. The Draft EIS also analyzes the potential environmental impacts of approving a pending geothermal lease application within the renewable energy evaluation area.

This CDCA Draft Plan Amendment/Draft EIS analyzes 6 alternatives, including (1) No Action Alternative (the CDCA Plan would not be amended, and existing plan decisions, stipulations, and allocations would not change as a direct result of this planning process), (2) No Development Alternative, (3) Renewable Energy Development Emphasis, (4) Geothermal Development Only, (5) Solar Development Emphasis with Moderate Geothermal Development and No Wind Development, and (6) Geothermal Development Emphasis with Moderate Solar Development and No Wind Development. If an alternative is selected that establishes the evaluation area as available for solar energy development, it will be identified as a solar energy zone.

The principal issues identified thus far include Native American concerns; potential land use conflicts including recreation; cumulative impacts considering existing, proposed, and potential geothermal projects in the area; and potential impacts on cultural resources, wildlife, visual resources, and surface and groundwater resources. The Draft EIS also addresses geology, mining, geothermal resources, vegetation, threatened or endangered species, air quality, noise, transportation, human health and safety, and social and economic issues, as well as other issues raised during the scoping process.

The Draft EIS identifies stipulations and mitigation measures that could be applied to future energy projects. This document will not authorize any specific energy developments at this time. Additional project-specific environmental analyses would need to be conducted before on-the-ground development activities could occur.

The BLM, in compliance with FLPMA, NEPA, and all other relevant Federal laws, Executive orders, and management policies of the BLM, used an interdisciplinary approach in developing the EIS, working collaboratively in order to consider the variety of resource issues and concerns identified.

Please note that public comments and information submitted including names, street addresses, and e-mail addresses of persons who submit comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 1506.10, and 43 CFR 1610.2.

Teresa Raml,
California Desert District Manager.

[FR Doc. 2011-16556 Filed 6-30-11; 8:45 am]

BILLING CODE 4310-40-P